DEPARTMENT OF AGRICULTURE

Animal and Plant Health Inspection Service

[Docket No. APHIS-2006-0166]

Environmental Impact Statement; Genetically Engineered Fruit Fly and Pink Bollworm

AGENCY: Animal and Plant Health Inspection Service, USDA.

ACTION: Notice of intent to prepare an environmental impact statement and proposed scope of study.

SUMMARY: We are advising the public that the Animal and Plant Health Inspection Service intends to prepare an environmental impact statement relative to the proposed use of genetically engineered fruit flies and pink bollworm in certain plant pest control programs. This notice identifies potential issues and alternatives that will be studied in the environmental impact statement, requests public comment to further delineate the scope of the issues and alternatives, and provides notice of public meetings.

DATES: We will consider all comments that we receive on or before February 20, 2007. We will also consider comments made at public meetings to be held in Washington, DC, on January 17, 2007; in Ontario, CA, on January 23, 2007; in Tempe, AZ, on January 25, 2007; in Weslaco, TX, on January 30, 2007; and in Tampa, FL, on February 1, 2007. Each meeting will be held from 9 a.m. to 12 p.m., local time.

ADDRESSES: You may submit comments by either of the following methods: Federal eRulemaking Portal: Go to http://www.regulations.gov, select “Animal and Plant Health Inspection Service” from the agency drop-down menu, then click “Submit.” In the Docket ID column, select APHIS-2006-0166 to submit or view public comments and to view supporting and related materials available electronically. Information on using Regulations.gov, including instructions for accessing documents, submitting comments, and viewing the docket after the close of the comment period, is available through the site's “User Tips” link.

Postal Mail/Commercial Delivery: Please send four copies of your comment (an original and three copies) to Docket No. APHIS-2006-0166, Regulatory Analysis and Development, PPD, APHIS, Station 3A-03.8, 4700 River Road Unit 118, Riverdale, MD 20737-1238. Please state that your comment refers to Docket No. APHIS-2006-0166.

Public Meetings: For the locations of the public meetings regarding this notice, see the Supplementary Information section of this notice.

Reading Room: You may read any comments that we receive in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. David A. Bergsten, Biological Scientist, Environmental Services, PPD, APHIS, 4700 River Road Unit 149, Riverdale, MD 20737-1238; (301) 734-4883.

SUPPLEMENTARY INFORMATION:

Background

The Animal and Plant Health Inspection Service (APHIS) is considering using genetically engineered fruit flies (Diptera: Tephritidae) and pink bollworm (Pectinophora gossypiella) in our ongoing plant pest control programs for fruit flies and pink bollworm. Currently, these programs use a sterile insect technique that involves mass-rearing plant pests in a special facility, sterilizing the insects by irradiation, and releasing the insects to mate with wild plant pests. The release of sterile insects reduces the pest population through associated decreases in the potential reproduction rate. Genetically engineered fruit flies and pink bollworm could augment the sterile insect technique by producing only male insects, insects with a genetic identification marker, insects that compete more effectively for mates, and/or insects that produce no viable offspring.

Under the provisions of the National Environmental Policy Act of 1969, as amended (42 U.S.C. 4321 et seq.), agencies must examine the potential environmental effects of proposed Federal actions and alternatives. We intend to prepare an environmental impact statement (EIS) relative to the proposed use of genetically engineered fruit flies and pink bollworm in the plant pest control programs for fruit flies and pink bollworm. The EIS will examine the range of potential effects that the proposed applications could pose to the human environment.

This notice identifies potential issues and alternatives that we will study in the EIS and requests public comment to further delineate the issues and the scope of the alternatives.

We have identified three broad alternatives for study in the EIS.

Take no action. This alternative contemplates no change to the plant pest control programs that use sterile insect technique. It represents a baseline against which proposed revisions may be compared.

Expansion of existing plant pest control programs. This alternative contemplates improving the current plant pest control programs by expanding rearing operations, irradiation treatment capacity, classical genetic selection methods for separation of insect sexes, and the plant pest species used in these programs.

Integrate genetically engineered insects into existing plant pest control programs. This alternative contemplates integrating genetically engineered fruit flies and pink bollworm into the current plant pest control programs.

We welcome comments on these alternatives and on other issues or alternatives that should be examined in the EIS. In addition, we invite responses to the following questions:

Are there any new or greater risks or apparent benefits associated with the strategy of using genetic engineering instead of classical genetic techniques to develop new insect strains to improve ongoing APHIS plant pest control programs? If so, please explain.

The proposed EIS focuses on the development and use of genetic engineering to improve specific APHIS plant pest control programs. Are there any unique risks that APHIS should consider in detail for genetic engineering of pink bollworm and fruit fly species?

What are the potential risks of non-target effects associated with this technology?

All comments will be considered fully in developing a final scope of study. When the draft EIS is completed, a notice announcing its availability and an invitation to comment on it will be published in the Federal Register.

Public Meetings

We are advising the public that we are hosting five public meetings on this notice of intent to prepare an EIS. The public meetings will be held as follows:

Wednesday, January 17, 2007, in the USDA Jamie L. Whitten Building, Room 107-A, 1400 Independence Avenue SW., Washington, DC.

Tuesday, January 23, 2007, in the Marriott Hotel, 2200 East Holt Boulevard, Ontario, CA.

Thursday, January 25, 2007, in the Holiday Inn, 915 East Apache Boulevard, Tempe, AZ.

Tuesday, January 30, 2007, in the Kika de la Garza Subtropical Agricultural Research Center, 2413 East Highway 83, Bldg. 213, Bill Wilson Conference Room, Weslaco, TX.

Thursday, February 1, 2007, in the Embassy Suites Hotel Tampa-Airport/Westshore, 555 North Westshore Boulevard, Tampa, FL.

All of the public meetings will be held from 9 a.m. to noon, local time.

A representative of the Animal and Plant Health Inspection Service will preside at the public meetings. Any interested person may appear and be heard in person, by attorney, or by other representative. Written statements may be submitted and will be made part of the meeting record.

Registration for each meeting will take place 30 minutes prior to the scheduled start of the meeting. Persons who wish to speak at a meeting will be asked to sign in with their name and organization to establish a record for the meeting. We ask that anyone who reads a statement provide two copies to the presiding officer at the meeting.

The presiding officer may limit the time for each presentation so that all interested persons appearing at each meeting have an opportunity to participate. Each meeting may be terminated at any time if all persons desiring to speak and that are present in the meeting room have been heard.

Done in Washington, DC, this 13th day of December 2006.
Kevin Shea,
Acting Administrator, Animal and Plant Health Inspection Service.

[FR Doc. E6-21612 Filed 12-18-06; 8:45 am]

BILLING CODE 3410-34-P